DEPARTMENT OF LABOR

Occupational Safety and Health Administration

Agency Information Collection Activities; Announcement of the Office of Management and Budget's (OMB) Approvals

AGENCY: Occupational Safety and Health Administration (OSHA); Labor.

ACTION: Notice of approval.

SUMMARY: The Occupational Safety and Health Administration (OSHA) announces that the Office of Management and Budget (OMB) approved the information collection requirements found in certain sections of 29 CFR parts 1910 and 1915. This document provides the OMB approval numbers and expiration dates for these requirements.

FOR FURTHER INFORMATION CONTACT: Theda Kenney, Directorate of Safety Standards Programs, Occupational Safety and Health Administration, U.S. Department of Labor, Room N-3609, 200 Constitution Avenue, N.W., Washington, DC 20210, telephone (202) 693-2222.

SUPPLEMENTARY INFORMATION: In a series of Federal Register notices, the Agency announced its requests to OMB to renew its current extensions of approvals for various information collection (paperwork) requirements in its safety standards for General Industry and Shipyard Employment. In these Federal Register announcements, the Agency provided 60-day comment periods for the public to respond to OSHA's burden-hour and cost estimates.

In accordance with the Paperwork Reduction Act of 1995 (44 U.S.C. 3501-3520), OMB recently renewed its approval for these information collection requirements, and assigned OMB control numbers to these requirements. The table below provides the following information for each of these OMB-approved requirements: The title of the standard that contains the requirement and, in some cases, the title of the requirement; the Federal Register reference (date, volume, and leading page) to OSHA's request for public comment on its burden-hour and cost estimates, and the OSHA docket number for these comments; the OMB control number, and the new expiration date.

Title | Federal Register reference and OSHA docket No. | OMB control Number | Expiration date
Reports of Injuries to Employees Operating Mechanical Power Presses (29 CFR 1910.217(g)) | 12/15/1999, 64 FR 70056; Docket No. ICR-1218-0070(2000) | 1218-0070 | 05/31/2003
Personal Protective Equipment for General Industry (29 CFR 1910.132) | 10/22/1999, 64 FR 57127; Docket No. ICR-1218-0205(2000) | 1218-0205 | 05/31/2003
Personal Protective Equipment for Shipyard Employment (29 CFR part 1915, subpart I) | 10/21/1999, 64 FR 56812; Docket No. ICR-1218-0215(2000) | 1218-0215 | 05/31/2003
Inspection Certification Records for Slings (29 CFR 1910.184) | 09/17/1999, 64 FR 50544; Docket No. ICR-99-18 | 1218-0223 | 06/30/2002
Mechanical Power Presses, Inspection Certification Records (29 CFR 1910.217 (e)(1)(i) and (e)(1)(ii)) | 09/10/1999, 64 FR 49248; Docket No. ICR-99-23 | 1218-0229 | 06/30/2002
Aerial Lifts, Manufacturer's Certification Record of Modification (29 CFR 1910.67 (b)(2)) | 09/10/1999, 64 FR 49247; Docket No. ICR-99-24 | 1218-0230 | 06/30/2002
Manlifts, Inspection Certification Record (29 CFR 1910.68 (e)(3)) | 09/02/1999, 64 FR 48209; Docket No. ICR-99-21 | 1218-0226 | 06/30/2002
Forging Machines, Inspection Certification Records (29 CFR 1910.218 (a)(2)(i) and (a)(2)(ii)) | 09/02/1999, 64 FR 48209; Docket No. ICR-99-22 | 1218-0228 | 06/30/2002
Overhead and Gantry Cranes, Inspection Certification Records (29 CFR 1910.179 (j)(2)(iii), (j)(2)(iv), (m)(1), and (m)(2)) | 09/02/1999, 64 FR 48208; Docket No. ICR-99-19 | 1218-0224 | 06/30/2002
Servicing Multi-Piece and Single Piece Rim Wheels, Manufacturer's Certification Record (29 CFR 1910.177 (d)(3)(iv)) | 09/02/1999, 64 FR 48207; Docket No. ICR-99-14 | 1218-0219 | 06/30/2002
Telecommunications, Training Certification Record (29 CFR 1910.268 (c)) | 08/27/1999, 64 FR 46960; Docket No. ICR-99-20 | 1218-0225 | 06/30/2002
Derricks, Inspection Certification Records (29 CFR 1910.181 (g)(1) and (g)(3)) | 08/18/1999, 64 FR 44962; Docket No. ICR-99-17 | 1218-0222 | 06/30/2002
Portable Fire Extinguishers, Hydrostatic Test Certification Record (29 CFR 1910.157 (f)(16)) | 08/11/1999, 64 FR 43734; Docket No. ICR-99-13 | 1218-0218 | 06/30/2002
Shipyard Certification Records (29 CFR 1915.113 (b)(1) and 1915.172(d)) | 08/11/1999, 64 FR 43736; Docket No. ICR-99-15 | 1218-0220 | 06/30/2002
Crawler, Locomotive, and Truck Cranes, Inspection Certification Records (29 CFR 1910.180 (d), (g)(1), and (g)(2)(iii)) | 08/11/1999, 64 FR 43735; Docket No. ICR-99-16 | 1218-0221 | 06/30/2002
Hazardous Waste Operations and Emergency Response (HAZWOPER) (29 CFR 1910.120) | 07/01/1999, 64 FR 35699; Docket No. ICR-99-3 | 1218-0202 | 10/31/2002
Process Safety Management of Highly Hazardous Chemicals (29 CFR 1910.119) | 06/23/1999, 64 FR 33527; Docket No. ICR-99-4 | 1218-0200 | 10/31/2002

Under 5 CFR 1320.5(b), an Agency cannot conduct, sponsor, or require a response to, a collection of information unless: The collection displays a valid OMB control number; and the Agency informs respondents that they are not required to respond to the collection of information unless it displays a currently valid OMB control number.

This document was prepared under the direction of Charles N. Jeffress, Assistant Secretary of Labor for Occupational Safety and Health, U.S. Department of Labor, 200 Constitution Avenue, N.W., Washington, D.C. 20210.

Signed at Washington, DC, this 16th day of August 2000.
Charles N. Jeffress,
Assistant Secretary of Labor.

[FR Doc. 00-21812 Filed 8-24-00; 8:45 am]

BILLING CODE 4510-26-P